DEPARTMENT OF DEFENSE

Department of the Army

[Docket ID: USA-2013-0029]

Proposed Collection; Comment Request

AGENCY: Office of the Administrative Assistant to the Secretary of the Army (OAA-AAHS), DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 12, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to U.S. Army Cadet Command Junior ROTC, Bldg. 6573, 394 2nd Dragoon Road, Fort Knox, Kentucky 40121, ATTN: ATCC-JRI (Billy Smith), or call Department of the Army Reports Clearance Officer at (703) 428-6440.

SUPPLEMENTARY INFORMATION:

Title; Associated Form; and OMB Number: Application and Contract for Establishment of a Junior Reserve Officers' Training Corps Unit, DA Form 3126; OMB Control Number 0702-0021.

Needs and Uses: The program provides unique educational opportunities for young citizens through their participation in a federally sponsored curriculum while pursuing their civilian education. Students develop citizenship, leadership, communications skills, an understanding of the role of the U.S. Army in support of national objectives, and an appreciation for the importance of physical fitness.

Affected Public: Not for Profit Institutions.

Annual Burden Hours: 70.

Number of Respondents: 70.

Responses per Respondent: 1.

Average Burden per Response: 1 hour.

Frequency: On occasion.

Data provided on the DA Form 3126 is used to determine which schools are invited to host a unit, to establish a fair and equitable distribution of units throughout the Nation, and to identify selection criteria such as enrollment potential, capacity of the institution to conduct the program, educational accreditation, and the ability of the school to comply with statutory and contractual obligations.

Dated: September 8, 2013.
Aaron Siegel,
Alternate OSD Federal Register, Liaison Officer, Department of Defense.

[FR Doc. 2013-22202 Filed 9-11-13; 8:45 am]

BILLING CODE 3710-08-P